DEPARTMENT OF TRANSPORTATION

ITS Joint Program Office; Trucking Industry Mobility & Technology Coalition Annual Meeting

AGENCY: Research and Innovative Technology Administration, U.S. Department of Transportation.

ACTION: Notice.

The Trucking Industry Mobility & Technology Coalition (TIMTC) Annual Meeting will be held October 18-19, 2010 in conjunction with ATA's Management Conference & Exhibition in Phoenix, providing TIMTC members with the opportunity to participate in both events simultaneously. TIMTC is a U.S. DOT-sponsored forum for public and private sector stakeholders that are focused on the latest in truck technology and productivity initiatives. TIMTC members will convene in Phoenix this October for business and educational meetings focused on today's top issues including: Truck IntelliDrive: Beating Gridlock with a Smart Grid; U.S. DOT Truck Technology Initiatives; and State and Federal Reauthorization Objectives.

Confirmed speakers include: Anne Ferro, FMCSA Administrator; Jeff Lindley, FHWA Associate Administrator for Operations; Allen Biehler, Secretary of Transportation, Commonwealth of Pennsylvania; David Parker, Senior Legal Counsel, Great West Casualty; and other top industry executives.

For more information and your free registration for the TIMTC Annual Meeting, please contact Carla Schulz at 770-432-0628 or TIMTC@trucking.org. Not yet a member of TIMTC? Membership is free and provides the latest information and updates on trucking industry initiatives that improve the industry's safety and mobility. Send your contact information to TIMTC@trucking.org to receive your free membership.

Issued in Washington, DC, on the 9th day of September 2010.
John Augustine,
Managing Director, ITS Joint Program Office.

[FR Doc. 2010-22962 Filed 9-15-10; 8:45 am]

BILLING CODE 4910-HY-P